DEPARTMENT OF AGRICULTURE

Forest Service

Six Rivers National Forest, Mad River Ranger District, CA; Buck Mountain Vegetation and Fuel Management Project EIS

AGENCY: Forest Service, USDA.

ACTION: Notice of intent to prepare an environmental impact statement.

SUMMARY: The Six Rivers National Forest (Six Rivers NF) will prepare an Environmental Impact Statement to disclose the impacts associated with the following proposed actions:

1. Fuel reduction would occur and be located along corridors primarily on strategically placed ridges, along highly traveled roads and within isolated stands near private property. Treatment would consist of thinning trees less than 8″ diameter breast-height (DBH) and removing brush within treatment areas. Commercial biomass would be a by-product of this treatment. Fuel treatments would augment on-going road brush treatment projects funded by the Community Wildfire Protection Plan (CWPP) located in the northwest corner of the project area.

2. All previously managed plantations would be treated, either with commercial thinning or timber stand improvements (TSI). Both treatments are designed to reduce stand density, decrease competition and improve growing space for residual trees. Commercially thinned plantations would consist of thinning trees greater than 8″ DBH. Plantations without a commercial saw-log component (TSI) would consist of thinning trees less than 8″ DBH and reducing brush. Commercial biomass would be a by-product of TSI treatments.

3. Off-site ponderosa pine plantations would be thinned to promote growth of naturally occurring tree species.

4. Douglas-fir/tanoak plantations would be thinned, and most of the planted pine within these plantations would be removed, while a portion of the hardwood component would be maintained.

5. Pure stands of Douglas-fir would be thinned to increase growing space for overstocked early seral stands. Stands that once contained a significant black oak component would be thinned to encourage black oak regeneration.

6. Douglas-fir and white fir stands with viable oak and pine would be thinned to reduce overall stand density, and trees that compete with healthy hardwoods and pines would be removed to increase their viability and promote their regeneration.

7. All treatments would maintain tree species mix of hardwoods and conifers.

DATES: Comments concerning the scope of the analysis must be received by March 3, 2011. The draft environmental impact statement is expected August 2011 and the final environmental impact statement is expected November 2011.

ADDRESSES: Send written comments to Buck Mountain Project Team, Mad River Ranger District, 741 State Highway 36, Bridgeville, CA 95526. Comments may also be sent via facsimile to (707) 574-6273. Electronic comments, in acceptable plain text (.txt), rich text (.rtf), or Word (.doc) may be submitted to comments-pacificsouthwest-six-rivers-mad-river@fs.fed.us. Please insure that “Buck Mountain Project” occurs in the subject line.

FOR FURTHER INFORMATION CONTACT: Individuals who use telecommunication devices for the deaf (TDD) may call the Federal Information Relay Service (FIRS) at 1-800-877-8339 between 8 a.m. and 8 p.m., Eastern Time, Monday through Friday.

SUPPLEMENTARY INFORMATION:

Background

The Forest Service is proposing the Buck Mountain Vegetation and Fuel Management Project to accelerate late-successional forest characteristics, reduce excessive fuel loading, and improve and restore forest ecosystem health. The Buck Mountain planning area encompasses approximately 14,396 acres, of which 10,058 acres are National Forest System (NFS) lands. The project would treat approximately 2,062 acres of NFS lands. Treatment would consist of: (1) Commercially harvesting timber stands under 130 years old, through thinning on approximately 613 acres of natural stands, 389 acres of plantations and 44 acres of oak restoration; (2) non-commercial timber stand improvement on 788 acres of previously managed stands; and (3) stand alone fuels treatments on 1,228 acres, primarily located along strategically located roads and ridge tops.

The proposed project would take place within the Upper Van Duzen watershed on NFS lands administered by the Mad River Ranger District in Humboldt County and Trinity County, California. The legal location includes portions of the following townships: Township 1 North, Range 5 East; Township 1 North, Range 6 East; Township 1 South, Range 6 East; and Township 1 South, Range 5 East, Humboldt Baseline and Meridian.

(1) The majority of the Buck Mountain Planning Area occurs within the Eel River Late-Successional Reserve (LSR). A Forest-wide Late Successional Reserve Assessment (LSRA, 1999) determined that this area of the LSR was deficient in late-successional habitat. Portions of the LSR were previously privately owned and heavily harvested. Extensive stands of plantations exist that do not provide suitable habitat for late successional species such as the northern spotted owl. The LSRA identified this area as needing density management and fuel reduction treatments to develop and protect late-successional habitat. Management opportunities exist in conifer stands that are in the tanoak, Douglas-fir and white fir series that are either old plantations or natural stands that are less than 130 years old. They are characterized generally as overstocked with high fuel loadings.

(2) The majority of the planning area occurs within the Wildland Urban Interface (WUI) areas for the communities of Mad River and Dinsmore as well as residences along the Van Duzen River in Trinity County and Humboldt County.

(3) Oak woodland communities historically comprised a much greater percentage of the landscape than today. In 1855 approximately 36% of the North Fork of the Eel River watershed, a component of LSR 307, was composed of oak woodland communities, and currently it is about 6%. Evidence within the Buck Mountain Planning Area suggests a similar decline in oak woodland communities. Oak communities have greater native grass and forbs species diversity than adjacent conifer forests and provide greater forage habitat for deer populations than adjacent vegetation communities. Additionally, grasses and forbs mature later in the summer beneath oak communities, which can extend the availability of forage and reduce the rate of spread of wildfire.

(4) The Van Duzen River Watershed Analysis (Van Duzen River WA, 1998) had determined that current road densities were too high within the Van Duzen watershed and the Eel River LSR. The LSR as a whole had been evaluated to have 3.1 miles of roads per square mile. Road density within the project area on Federal lands is even higher, at 3.6 miles per square mile. Reducing the road density within the project area would reduce sediment levels and benefit aquatic habitats. Decommissioning (should opportunities exist) would help accomplish this.

Management Areas

The Mad River Ranger District is managed under the Six Rivers National Forest Land Resource Management Plan (LRMP). The National Forest Service portion of the planning area has two management area allocations:

Management Area 8—Special Habitat (9,612 acres): The majority of the planning area consists of this management area. Special habitat within the planning area consists of the Eel River Late-Successional Reserve (LSR). This management area is intended to provide a core of relatively undisturbed habitat for plants and animals associated with mature and old growth forests. The management emphasis and goal is to protect and enhance late-successional habitat (LRMP, IV-34, 35).

Management Area 17—General Forest (446 acres): A small portion of the planning area is within this management area. General Forest includes forested land where commercial timber management is expected to occur. Examples of allowable silvicultural activities include timber harvest, reforestation, conifer release, pre-commercial thinning, and forest pest management. The primary goals are to produce a sustained yield of timber, contribute younger seral stages to the vegetation mosaic of the forest, and conserve key components of functional habitat for mature and old growth-associated species (LRMP IV-63).

Required Consultations

The LRMP requires consultation with potentially affected Native American Tribes as part of the Forest's Native American trust responsibilities. Consultation was initiated with the Bear River Band of Rohnerville Rancheria, the Table Bluff Reservation-Wiyot Tribes and the Round Valley Indian Tribes in the late fall of 2009. There were no concerns expressed. The Forest Tribal Relations Specialist will complete Tribal consultation beyond the initiation phase.

Consultation with the Regional Ecosystem Office (REO) is required because of the proposed cutting of trees greater than 20” DBH in this planning area. Early consultation has been initiated by the REO. The REO LSR working group agreed with the rationale for exceeding the 20” DBH cut limit, and a finalized formal exemption is pending. It would be granted prior to the issuance of the Record of Decision (ROD) once the LSR working group determined that implementing the project's silviculture prescriptions would meet the objectives of Late Successional Reserves under the Northwest Forest Plan.

The Endangered Species Act requires consultation with the United States Fish and Wildlife Service (FWS) regarding any proposal that may affect a Federally listed threatened or endangered species. We will work closely with this agency through the Forest Level I wildlife biologist to fulfill consultation requirements for listed and proposed species.

The Endangered Species Act requires consultation with the United States National Marine Fisheries Service (NMFS) regarding any proposal that may affect a Federally listed threatened or endangered marine species. We will work closely with this agency through the fisheries biologist to fulfill consultation requirements for listed and proposed species.

The Clean Water Act requires Forest level consultation with the North Coast California Water Quality Control Board (NCCWQCB) to assure that basin plan standards for water quality are met by the proposal. This consultation will begin soon after preliminary Best Management Practices and project design features have been identified.

Late-Successional Reserve Management

Silvicultural prescriptions for the proposed treatment units in stands no older than 80 years conform to the criteria documented in the Forest-wide LSR Assessment. The Regional Ecosystem Office LSRA memorandum dated March 3, 2000 sanctioned proposed treatments of stands between 80 and 130 years old within LSRs on the Six Rivers NF, but it would require a non-significant Forest Plan amendment.

The REO acknowledged the case-by-case need to exceed the 20” DBH diameter cut limit requirement that would be needed to be met for the project to be exempt from further REO review. The proposal includes treatment of stands that would require the cutting of trees greater than 20” DBH to effectively meet LSR objectives. This proposal warranted consultation with the REO. A tentative verbal agreement has been issued allowing the proposal to proceed. A written memorandum sanctioning the proposal will be drafted once the preferred alternative is issued and issued before the ROD is signed.

Purpose and Need for Action

There is a need in the Buck Mountain Planning Area to manage vegetation and fuel in select conifer stands, oak woodlands and shrub fields for the purpose of achieving the following objectives:

• Accelerate the development of late-successional habitat characteristics in plantations and in early to mid-mature natural stands (up to 130 years old).

• Improve the health of conifer and oak woodland communities, increase their resiliency to wildfires and disease outbreaks, restore species diversity and reduce stand densities in overstocked stands.

• Minimize wildfire threat to local communities in strategic locations, along travel routes and near private residential property by reducing fuel buildup in stands in the WUI where stand conditions have high amounts of surface and ladder fuels.

In fulfilling the objectives listed above, there are opportunities to provide commodities in the form of timber, biomass, and fuelwood. All commercial activities and by-products would be incidental in achieving the desired outcomes stated in the purpose and need. There is also an opportunity to reduce open road densities in the planning area for watershed and late-successional habitat health.

Management Opportunities To Meet the Purpose and Need

To meet the purpose and need, the Six Rivers National Forest proposes to manage vegetation and treat fuel loadings on approximately 3,062 acres of National Forest System lands administered by the Mad River Ranger District. Potential treatment opportunities include the following:

• 1,046 acres of commercial harvest in plantations, natural stands up to 130 years old and oak woodlands. Silvicultural treatments would include commercial thinning, oak release, and thinning/sanitation cutting. Ground skidding, skyline cable, and helicopter logging methods may be employed, as dictated by cost efficiency and resource protection needs. Potential harvest yield is about 4.5 to 5.5 MMBF.

Activities associated with commercial harvesting include use of existing roads, skid trails, and landings, activity fuel treatments, and road maintenance/minor reconstruction along haul routes. New skid trails and landings would be needed in some areas to facilitate harvest activities. Harvest activity fuel treatments may involve a combination of mechanical techniques (biomass utilization, chipping, yarding tops, machine piling/burning), manual techniques (hand piling/burning and lop/scatter to 18” or less depth), and prescribed burning.

Approximately 6.0 miles of temporary road may be needed to perform these treatments. Approximately 3.8 miles would use existing road beds (old logging roads and illegal woodcutting roads). Approximately 2.2 miles would be newly constructed temporary roads. No new system road construction is anticipated. Temporary roads would be decommissioned after project completion.

• 788 acres of timber stand improvement (TSI) in plantations and young natural stands. Silvicultural treatments include non-commercial thinning and release and commercial biomass utilization. As with commercial harvesting, activity fuel treatments would also be prescribed.

• 46 acres of stand-alone fuel reduction in early to mid-mature seral natural stands. Prescribed treatments include small tree cutting, mastication, road-side chipping, prescribed fire, hand piling, biomass/fuelwood utilization, raking/windrowing, lop and scatter to 18” or less depth and machine piling.

• 1,182 acres of fuelbreak construction along strategic travel routes and ridges. Prescribed treatments within 300 feet on either side of selected roads, which are outside of commercial harvest, TSI, and stand-alone fuel reduction units, may include one or several of the following: Small tree cutting, mastication, roadside chipping, prescribed burning (underburning and jackpot burning), hand piling/burning, lop/scatter to 18” or less depth and machine piling.

• Hauling of commercial timber products on State Highway 36, County Roads 511 and 512 and Forest Service System roads within the planning area. Felling and removal, where appropriate, of hazard trees along haul routes.

• Decommissioning of non-essential existing roads outside of the proposed treatment areas may be included in the design of this project to reduce road density as part of the restoration of late-successional habitat and watershed conditions.

Proposed Action

Most of the project area is located within a LSR. Proposed fuel and harvest units were chosen based on criteria that would meet two objectives of LSRs: (1) Protecting existing and potential late-successional habitat from catastrophic loss due to wildfire or disease and/or bug outbreak from overstocked stand conditions, and (2) Accelerating development of late-successional habitat. The proposed action is designed to meet the project's purpose and need while satisfying the standards and guidelines of the LRMP. The Buck Mountain Vegetation and Fuel Management Project would treat vegetation in the following ways:

• Fuel reduction would be located along corridors primarily on strategically placed ridges, along highly traveled roads and within isolated stands near private property. Treatment would consist of thinning trees less than 8″ DBH and removing brush within treatment areas. Commercial biomass would be a by-product of this treatment. Fuel treatments would augment on-going road brush treatment projects funded by the Community Wildfire Protection Plan (CWPP) located in the northwest corner of the project area.

• All previously managed plantations would be treated, either with commercial thinning or timber stand improvements (TSI). Both treatments are designed to reduce stand density, decrease competition and improve growing space for residual trees. Commercially thinned plantations would consist of thinning trees greater than 8″ DBH. Plantations without a commercial saw-log component (TSI) would consist of thinning trees less than 8″ DBH and reducing brush. Commercial biomass would be a by-product of TSI treatments.

• Off-site ponderosa pine plantations would be thinned to promote growth of naturally occurring tree species.

• Douglas-fir/tanoak plantations would be thinned, and most of the planted pine within these plantations would be removed, while a portion of the hardwood component would be maintained.

• Pure stands of Douglas-fir would be thinned to increase growing space for overstocked early seral stands. Stands that once contained a significant black oak component would be thinned to encourage black oak regeneration.

• Douglas-fir and white fir stands with viable oak and pine would be thinned to reduce overall stand density, and trees that compete with healthy hardwoods and pines would be removed to increase their viability and promote their regeneration.

All treatments would maintain tree species mix of hardwoods and conifers.

Maps and tables detailing the proposed action can be found at http://www.fs.fed.us/r5/sixrivers/.

In addition, maps will be available for viewing at:

Mad River Ranger District, 741 Highway 36 (28 miles east of Bridgeville), Bridgeville, CA 95526; phone: 707-574-6233.

Responsible Official

Thomas Hudson, District Ranger, Mad River Ranger District, 741 Highway 36, Bridgeville, CA 95526.

Nature of Decision To Be Made

The responsible official will decide whether to adopt and implement the proposed action, an alternative to the proposed action, or take no action.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered; however, those who only submit anonymous comments will not have standing to appeal the subsequent decision under 36 CFR part 215.

Dated: January 11, 2011.
Tyrone Kelley,
Forest Supervisor.

[FR Doc. 2011-884 Filed 1-14-11; 8:45 am]

BILLING CODE 3410-11-P